DEPARTMENT OF HOMELAND SECURITY

Coast Guard

33 CFR Part 117

[Docket No. USCG-2015-0569]

Drawbridge Operation Regulation; Willamette River, Portland, OR

AGENCY: Coast Guard, DHS.

ACTION: Notice of deviation from drawbridge regulation.

SUMMARY: The Coast Guard has issued a temporary deviation from the operating schedule that governs the Morrison Bridge, mile 12.8, and the Hawthorne Bridge, mile 13.1, both crossing the Willamette River at Portland, OR. The deviation is necessary to accommodate Portland's Red, White, and Blues Run/Walk event. The deviation allows the bridges to remain in the closed-to-navigation position from 5 a.m. to 10 a.m. on July 5, 2015 to allow for the safe movement of event participants across the bridges.

DATES: This deviation is effective from 5 a.m. to 10 a.m. on July 5, 2015.

ADDRESSES: The docket for this deviation, [USCG-2015-0569] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Steven Fischer, Bridge Administrator, Thirteenth Coast Guard District; telephone 206-220-7282, email d13-pf-d13bridges@uscg.mil. If you have questions on viewing the docket, call Cheryl Collins, Program Manager, Docket Operations, telephone 202-366-9826.

SUPPLEMENTARY INFORMATION: Multnomah County has requested that the Hawthorne and Morrison drawbridges across the Willamette River in Portland, OR remain closed to vessel traffic from 5 a.m. to 10 a.m. on July 5, 2015 to facilitate safe, uninterrupted roadway passage of event participants for the Red, White and Blues Run/Walk event.

The Morrison Bridge, mile 12.8, provides a vertical clearance of 69 feet in the closed position, and the Hawthorne Bridge, mile 13.1, provides 49 feet of vertical clearance in the closed position, all clearances are referenced to the vertical clearance above Columbia River Datum 0.0.

This deviation allows the Hawthorne and Morrison Bridges, across the Willamette River, to remain in the closed position and need not open for maritime traffic from 5 a.m. to 10 a.m. on July 5, 2015. Waterway usage on this part of the Willamette River includes vessels ranging from commercial tug and barge to small pleasure craft.

Vessels able to pass through the bridges in the closed positions may do so at any time. The bridges will be able to open for emergencies and there is no immediate alternate route for vessels to pass. The Coast Guard will also inform the users of the waterways through our Local and Broadcast Notices to Mariners of the change in operating schedule for the bridges so that vessels can arrange their transits to minimize any impact caused by the temporary deviation.

In accordance with 33 CFR 117.35(e), the drawbridge must return to its regular operating schedule immediately at the end of the designated time period. This deviation from the operating regulations is authorized under 33 CFR 117.35.

Dated: June 17, 2015.
Steven M. Fischer,
Bridge Administrator, Thirteenth Coast Guard District.

[FR Doc. 2015-15215 Filed 6-19-15; 8:45 am]

BILLING CODE 9110-04-P